ENVIRONMENTAL PROTECTION AGENCY

40 CFR Part 52

[EPA-R07-OAR-2011-0627; FRL-9692-8]

Approval and Promulgation of Implementation Plans and Designations of Areas for Air Quality Planning Purposes; Missouri and Illinois; St. Louis Nonattainment Area; Determination of Attainment by Applicable Attainment Date for the 1997 Annual Fine Particulate Standards

AGENCY: Environmental Protection Agency (EPA).

ACTION: Final rule.

SUMMARY: EPA is determining, pursuant to the Clean Air Act (CAA), that the bi-state St. Louis, Missouri-Illinois, fine particulate (PM2.5) nonattainment area (hereafter referred to as “the St. Louis area” or “the area”) has attained the 1997 annual PM2.5 national ambient air quality standards (NAAQS) by its applicable attainment date of April 5, 2010. This determination is based on quality-assured and certified monitoring data for the 2007-2009 monitoring period. Based on this data, EPA previously determined on May 23, 2011, that the area attained the 1997 standards, and EPA suspended certain planning requirements for the area based on that determination. EPA is now finding that the St. Louis area attained the 1997 annual PM2.5 NAAQS by its applicable attainment date. EPA is finalizing this action because it is consistent with the CAA and its implementing regulations.

DATES: This rule is effective on July 27, 2012.

ADDRESSES: EPA has established a docket for this action under Docket ID No. EPA-R07-OAR-2011-0627. All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Atmospheric Section, Air Planning and Development Branch, Air Waste and Management Division, U.S. Environmental Protection Agency, Region 7, 901 North 5th Street, Kansas City, Kansas 66101. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: In Region 7, Steven Brown, Atmospheric Programs Section, Air Planning and Development Branch, Air and Waste Management Division, U.S. Environmental Protection Agency, Region 7, 901 North 5th Street, Kansas City, Kansas 66101. Steven Brown may be reached by telephone at (913) 551-7718 or via electronic mail at brown.steven@epa.gov. In Region 5, John Summerhays, Attainment Planning and Maintenance Section, Air Programs Branch (AR 18J), U.S. Environmental Protection Agency, Region 5, 77 West Jackson Boulevard, Chicago, Illinois 60604. The telephone number is (312) 886-6067. Mr. Summerhays can also be reached via electronic mail at summerhays.john@epa.gov.

SUPPLEMENTARY INFORMATION:

I. What action is EPA taking?

II. What is the effect of this action?

III. What is the final action?

IV. Statutory and Executive Order Reviews

I. What action is EPA taking?

Based on EPA's review of the quality-assured and certified monitoring data for 2007-2009, and in accordance with section 179(c)(1) of the CAA, EPA is determining that the St. Louis area attained the 1997 annual PM2.5 NAAQS by the applicable attainment date of April 5, 2010. The St. Louis area is comprised of Jefferson County, Franklin County, St. Louis County, St. Louis City, and St. Charles in Missouri, and Madison, Monroe and St. Clair Counties, and Baldwin Township in Randolph County in Illinois. On May 23, 2011, EPA published a final rulemaking making a determination that the St. Louis area attained the 1997 annual PM2.5 NAAQS based on quality-assured, quality controlled and certified ambient air monitoring data for the 2007-2009 monitoring period and thereby suspended the requirements for the St. Louis area to submit an attainment demonstration and associated reasonably available control measures (RACM), a reasonable further progress (RFP) plan, contingency measures, and other planning State Implementation Plan (SIP) revisions related to attainment of the 1997 annual PM2.5 NAAQS so long as the area continues to attain the 1997 Annual PM2.5 NAAQS. See 76 FR 29652. Further information regarding that action is available in the notice proposing that action, published on March 7, 2011, at 76 FR 12302.

Today's final action merely makes a determination that the St. Louis area attained the 1997 annual PM2.5 NAAQS by its applicable attainment date. This action does not revisit the prior attainment determination or reconsider the suspension of the requirements for the St. Louis area to submit an attainment demonstration and associated RACM, an RFP plan, contingency measures, and other planning SIP revisions related to attainment of the standard. More information regarding the 1997 annual PM2.5 NAAQS and the area's attainment of that NAAQS is available at 76 FR 29652 (May 23, 2011). A detailed discussion of EPA's review of the monitoring data showing attainment of the standard can be found in the March 7, 2011 proposed action and the May 23, 2011 final action.

Other specific requirements of the determination and the rationale for EPA's action today are explained in the Notice of Proposed Rulemaking (NPR) published on December 20, 2011 (76 FR 78869). The comment period closed on January 19, 2012. No comments were received in response to the NPR.

II. What is the effect of this action?

Today's action is a determination that the St. Louis area attained the 1997 annual PM2.5 NAAQS by its applicable attainment date of April 5, 2010, consistent with CAA section 179(c)(1). Finalizing this action does not constitute a redesignation of the St. Louis area to attainment of the 1997 annual PM2.5 NAAQS under section 107(d)(3) of the CAA. Further, finalizing this action does not involve approving maintenance plans for the St. Louis area as required under section 175A of the CAA, nor would it find that the St. Louis area has met all other requirements for redesignation. The designation status of the St. Louis area remains nonattainment for the 1997 annual PM2.5 NAAQS until such time as EPA determines that the area meets the CAA requirements for redesignation to attainment and takes action to redesignate the area.

III. What is the final action?

This action is a final determination, based on quality-assured and certified monitoring data for the 2007-2009 monitoring period, that the St. Louis area attained the annual PM2.5 NAAQS by its applicable attainment date of April 5, 2010. This action is being taken pursuant to section 179(c)(1) of the CAA and is consistent with the CAA and its implementing regulations.

IV. Statutory and Executive Order Reviews

This final action merely makes a determination of the St. Louis area's attainment of the 1997 PM2.5 NAAQS based upon complete, quality-assured, and certified ambient air quality data, pursuant to statutory mandate, and does not impose additional requirements beyond those imposed by state law. This final action makes a non-discretionary determination of the St. Louis area's attainment of the 1997 PM2.5 NAAQS based solely upon complete, quality-assured, and certified ambient air quality data, as mandated by CAA section 179(c)(1). For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this final rule determines that the St. Louis area attained the 1997 annual average PM2.5 NAAQS by its applicable attainment date does not have tribal implications as specified by Executive Order 13175 (65 FR 67249, November 9, 2000), because the SIPs are not approved to apply in Indian country located in the states, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: May 16, 2012.
Karl Brooks,
Regional Administrator, Region 7.
Dated: June 15, 2012.
Susan Hedman,
Regional Administrator, Region 5.

Therefore, 40 CFR part 52 is amended as follows:

PART 52—[AMENDED]

1. The authority citation for part 52 continues to read as follows:

Authority: 42 U.S.C. 7401 et seq.

2. Section 52.725(k) is revised to read as follows:

§ 52.725 Control Strategy: Particulates.

* * * * *

(k) Determination of attainment. EPA has determined, as of May 23, 2011, that the St. Louis (MO-IL) metropolitan 1997 PM2.5 nonattainment area has attained the 1997 PM2.5 NAAQS. This determination, in accordance with 40 CFR 51.1004(c), suspends the requirements for this area to submit an attainment demonstration, associated reasonably available control measures, reasonable further progress, contingency measures, and other plan elements related to attainment of the standards for as long as the area continues to meet the 1997 PM2.5 NAAQS. In addition, based upon review of the air quality data for the 3-year period 2007 to 2009, EPA has determined that the St. Louis (MO-IL) PM2.5 nonattainment area has attained the 1997 PM2.5 NAAQS by the applicable attainment date of April 5, 2010.

3. Section 52.1341 is revised to read as follows:

§ 52.1341 Control strategy: Particulate.

Determination of attainment. EPA has determined, as of May 23, 2011, that the St. Louis (MO-IL) metropolitan 1997 PM2.5 nonattainment area has attained the 1997 PM2.5 NAAQS. This determination, in accordance with 40 CFR 51.1004(c), suspends the requirements for this area to submit an attainment demonstration, associated reasonably available control measures, reasonable further progress, contingency measures, and other plan elements related to attainment of the standards for as long as the area continues to meet the 1997 PM2.5 NAAQS. In addition, based upon EPA's review of the air quality data for the 3-year period 2007 to 2009, the St. Louis (MO-IL) PM2.5 nonattainment area has attained the 1997 PM2.5 NAAQS by the applicable attainment date of April 5, 2010.

[FR Doc. 2012-15573 Filed 6-26-12; 8:45 am]

BILLING CODE 6560-50-P